DEPARTMENT OF ENERGY

Federal Energy Regulatory Commission

Combined Notice of Filings #1

December 30, 2009.

Take notice that the Commission received the following electric corporate filings:

Docket Numbers: EC10-32-000.

Applicants: NSTAR Companies, Advanced Energy Systems, Inc., Medical Area Total Energy Plant, Inc., MATEP LLC, New MATEP, Inc.

Description: Application under Section 203 of the Federal Power Act for authorization of the sale of stock and disposition of facilities of Advanced Energy Systems, Inc., MATEP LLC, MATEP Inc., New MATEP Inc., and NSTAR.

Filed Date: 12/29/2009.

Accession Number: 20091229-5103.

Comment Date: 5 p.m. Eastern Time on Tuesday, January 19, 2010.

Take notice that the Commission received the following electric rate filings:

Docket Numbers: ER03-198-012.

Applicants: Pacific Gas and Electric Company.

Description: Pacific Gas and Electric Company submits its triennial market power update for the Southwest Region.

Filed Date: 12/23/2009.

Accession Number: 20091229-0058.

Comment Date: 5 p.m. Eastern Time on Wednesday, January 13, 2010.

Docket Numbers: ER06-615-058; ER07-1257-012.

Applicants: California Independent System Operator Corporation.

Description: California Independent System Operator Corporation submits First Revised Sheet 116B et al. to FERC Electric Tariff, Fourth Replacement Volume 1 in compliance with the Commission's 12/3/09 Order.

Filed Date: 12/28/2009.

Accession Number: 20091230-0037.

Comment Date: 5 p.m. Eastern Time on Tuesday, January 19, 2010.

Docket Numbers: ER09-712-002; ER06-736-002; ER02-2263-010; ER01-2217-008; ER08-931-004; ER08-337-005.

Applicants: High Lonesome Mesa, LLC, Midway-Sunset Cogeneration Company, Southern California Edison Company, Sunrise Power Company, Walnut Creek Energy, LLC, Watson Cogeneration Company.

Description: Southwest EIX MBR Affiliates submits market power analysis and revised MBR Tariffs re the High Lonesome Mesa, LLC et al.

Filed Date: 12/22/2009.

Accession Number: 20091230-0065.

Comment Date: 5 p.m. Eastern Time on Tuesday, January 12, 2010.

Docket Numbers: ER10-78-001.

Applicants: Orange Grove Energy, L.P.

Description: Orange Grover Energy, LP submits a substitute page of its proposed tariff to correct an incorrect page number and an amended version of attachment B to the application etc.

Filed Date: 12/28/2009.

Accession Number: 20091230-0035.

Comment Date: 5 p.m. Eastern Time on Tuesday, January 19, 2010.

Docket Numbers: ER10-472-000.

Applicants: Katahdin Paper Company LLC.

Description: Katahdin Paper Co, LLC submits the Notice of Cancellation of Market-Based Rate Tariff and request for waiver of the prior notice requirement.

Filed Date: 12/22/2009.

Accession Number: 20091224-0001.

Comment Date: 5 p.m. Eastern Time on Tuesday, January 12, 2010.

Docket Numbers: ER10-477-000.

Applicants: Consolidated Edison Company of New York, Inc.

Description: Consolidated Edison Company of New York, Inc submits a revised Master Services Agreement and Transaction Forms between Con Edison and Bayonne Energy Center, LLC.

Filed Date: 12/23/2009.

Accession Number: 20091224-0085.

Comment Date: 5 p.m. Eastern Time on Wednesday, January 13, 2010.

Docket Numbers: ER10-501-000.

Applicants: Southern California Edison Company.

Description: Southern California Edison Company submits revised rate sheets reflection cancellation of the letter agreements.

Filed Date: 12/23/2009.

Accession Number: 20091228-0022.

Comment Date: 5 p.m. Eastern Time on Wednesday, January 13, 2010.

Docket Numbers: ER10-505-000.

Applicants: Dynegy Services Plum Point, LLC.

Description: Dynegy Services Plum Point, LLC submits an application for market-based rate authorization under Section 205 of the Federal Power Act etc.

Filed Date: 12/28/2009.

Accession Number: 20091229-0056.

Comment Date: 5 p.m. Eastern Time on Tuesday, January 19, 2010.

Docket Numbers: ER10-508-000.

Applicants: Nevada Power Company.

Description: NV Energy submits an executed Interconnection Agreement designated as Service Agreement 09-01804 between NPC and El Dorado Energy, LLC.

Filed Date: 12/28/2009.

Accession Number: 20091230-0040.

Comment Date: 5 p.m. Eastern Time on Tuesday, January 19, 2010.

Docket Numbers: ER10-509-000.

Applicants: PJM Interconnection, L.L.C.

Description: PJM Interconnection, LLC submits revised Interconnection Service Agreement with Richmond Energy, LLC et al. that supersedes the Original Service Agreement 2205.

Filed Date: 12/28/2009.

Accession Number: 20091230-0038.

Comment Date: 5 p.m. Eastern Time on Tuesday, January 19, 2010.

Docket Numbers: ER10-510-000.

Applicants: Southern California Edison Company.

Description: Southern California Edison Company submits the unexecuted Brea Power II Standard Large Generator Interconnection Agreement, Service Agreement for Wholesale Distribution Service etc.

Filed Date: 12/28/2009.

Accession Number: 20091230-0036.

Comment Date: 5 p.m. Eastern Time on Tuesday, January 19, 2010.

Take notice that the Commission received the following electric reliability filings:

Docket Numbers: RD09-7-002.

Applicants: North American Electric Reliability Corp.

Description: Compliance Filing of the North American Electric Reliability Corp. in Response to FERC's September 30, 2009 Order Approving Revised Reliability Standards for Critical Infrastructure Protection and Requiring Compliance Filing.

Filed Date: 12/29/2009.

Accession Number: 20091229-5104.

Comment Date: 5 p.m. Eastern Time on Tuesday, January 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-457 Filed 1-12-10; 8:45 am]

BILLING CODE P